DEPARTMENT OF TRANSPORTATION

Federal Aviation Administration

14 CFR Part 39

[Docket No. FAA-2009-0797; Directorate Identifier 2009-CE-032-AD; Amendment 39-16118; AD 2009-25-01]

RIN 2120-AA64

Airworthiness Directives; Hawker Beechcraft Corporation Models 58, 58A, 58P, 58PA, 58TC, 58TCA, 95-B55, 95-B55A, A36, A36TC, B36TC, E55, E55A, F33A, and V35B Airplanes

AGENCY: Federal Aviation Administration (FAA), Department of Transportation (DOT).

ACTION: Final rule.

SUMMARY: We are adopting a new airworthiness directive (AD) to supersede AD 91-18-19, which applies to certain Hawker Beechcraft Corporation (Hawker) (Type Certificate Numbers 3A15, 3A16, and A23CE formerly held by Raytheon Aircraft Company; formerly held by Beech Aircraft Corporation) Models 58, 58A, 58P, 58PA, 58TC, 58TCA, 95-B55, 95-B55A, A36, A36TC, B36TC, E55, E55A, F33A, and V35B airplanes. AD 91-18-19 currently requires you to do a one-time inspection of the pilot and copilot shoulder harnesses for an incorrect washer and replace any incorrect washer with the correct washer. Since we issued AD 91-18-19, we have found that the applicability of AD 91-18-19 was incorrectly stated when the Model A36TC airplane was omitted from the Applicability section. Consequently, this AD would retain the actions and the serial number (SN) applicability of AD 91-18-19 and realign the SN applicability for Models A36TC and B36TC airplanes. We are issuing this AD to detect and correct an incorrect washer installed in the pilot and copilot shoulder harnesses. This incorrect part could result in a malfunctioning shoulder harness. Such a malfunction could lead to occupant injury.

DATES: This AD becomes effective on January 8, 2010.

As of October 21, 1991 (56 FR 42224, August 27, 1991), the Director of the Federal Register approved the incorporation by reference of Beechcraft Mandatory Service Bulletin No. 2394, dated December 1990, listed in this AD.

ADDRESSES: For service information identified in this AD, contact Hawker Beechcraft Corporation, P.O. Box 85, Wichita, Kansas 67201-0085; telephone: (800) 429-5372 or (316) 676-3140; Internet: http://pubs.hawkerbeechcraft.com.

To view the AD docket, go to U.S. Department of Transportation, Docket Operations, M-30, West Building Ground Floor, Room W12-140, 1200 New Jersey Avenue, SE., Washington, DC 20590, or on the Internet at http://www.regulations.gov. The docket number is FAA-2009-0797; Directorate Identifier 2009-CE-032-AD.

FOR FURTHER INFORMATION CONTACT: Steve Potter, Aerospace Engineer, 1801 Airport Road, Room 100, Wichita, Kansas 67209; telephone: (316) 946-4124; fax: (316) 946-4107.

SUPPLEMENTARY INFORMATION:

Discussion

On August 20, 2009, we issued a proposal to amend part 39 of the Federal Aviation Regulations (14 CFR part 39) to include an AD that would apply to certain Hawker (Type Certificate Numbers 3A15, 3A16, and A23CE formerly held by Raytheon Aircraft Company; formerly held by Beech Aircraft Corporation) Models 58, 58A, 58P, 58PA, 58TC, 58TCA, 95-B55, 95-B55A, A36, A36TC, B36TC, E55, E55A, F33A, and V35B airplanes. This proposal was published in the Federal Register as a notice of proposed rulemaking (NPRM) on August 28, 2009 (74 FR 44311). The NPRM proposed to supersede AD 91-18-19 (56 FR 42224, August 27, 1991) with a new AD that would retain the actions and the SN applicability of AD 91-18-19 and realign the SN applicability for Models A36TC and B36TC airplanes.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 4,792 airplanes in the U.S. registry.

We estimate the following costs to do the inspection:

Labor cost | Parts cost | Total cost per airplane | Total cost on U.S. operators
1 work-hour × $80 per hour = $80 | Not applicable | $80 | $383,360

We estimate the following costs to do any necessary replacements that would be required based on the results of the inspection. We have no way of determining the number of airplanes that may need this replacement:

Labor cost | Parts cost | Total cost per airplane
1 work-hour × $80 per hour = $80 | $5 | $85

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2009-0797; Directorate Identifier 2009-CE-032-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 91-18-19, Amendment 39-8022 (56 FR 42224, August 27, 1991), and adding the following new AD:

2009-25-01 Hawker Beechcraft Corporation: Amendment 39-16118; Docket No. FAA-2009-0797; Directorate Identifier 2009-CE-032-AD.

Effective Date

(a) This AD becomes effective on January 8, 2010.

Affected ADs

(b) This AD supersedes AD 91-18-19, Amendment 39-8022.

Applicability

(c) This AD applies to the following airplane models and serial numbers that are certificated in any category:

(1) Group 1 Airplanes (retains the actions and applicability from AD 91-18-19):

Model | Serial Nos. (SNs)
58, 58A | TH-733 through TH-1609.
58P, 58PA | TJ-3 through TJ-497.
58TC, 58TCA | TK-1 through TK-151.
95-B55, 95-B55A | TC-1947 through TC-2456.
A36 | E-825 through E-2578.
B36TC | EA-242 and EA-273 through EA-509.
E55, E55A | TE-1078 through TE-1201.
F33A | CE-634 through CE-1536.
V35B | D-9862 through D-10403.

(2) Group 2 Airplanes (aligns certain SNs applicability to Models A36TC airplanes):

Model | SNs
A36TC | EA-1 through EA-241 and EA-243 through EA-272.

Unsafe Condition

(d) This AD results from reports of incorrect washers installed in the pilot and copilot shoulder harnesses on certain Beech 33, 35, 36, 55, 58, and 95 series airplanes. We are issuing this AD to detect and correct an incorrect washer installed in the pilot and copilot shoulder harnesses. This incorrect part could result in a malfunctioning shoulder harness. Such a malfunction could lead to occupant injury.

Compliance

(e) To address this problem, you must do the following, unless already done:

Actions | Compliance | Procedures
(1) Inspect the washers on the “D” ring of the pilot and copilot shoulder harnesses for correct metal, inner and outer diameter, and thickness | (i) For Group 1 Airplanes: Within the next 100 hours time-in-service (TIS) after October 21, 1991 (the effective date of AD 91-18-19) (ii) For Group 2 Airplanes: Within the next 100 hours TIS after January 8, 2010 (the effective date of this AD) | Follow Beechcraft Mandatory Service Bulletin No. 2394, dated December 1990.
(2) If you find, as a result of the inspection required by paragraph (e)(1) of this AD, any washer does not meet the criteria for correct metal, inner and outer diameter, and thickness, replace the incorrect washer with part number 100951X060YA washer | Before further flight, after the inspection required by paragraph (e)(1) of this AD | Follow Beechcraft Mandatory Service Bulletin No. 2394, dated December 1990.

Alternative Methods of Compliance (AMOCs)

(f) The Manager, Wichita Aircraft Certification Office (ACO), FAA, has the authority to approve AMOCs for this AD, if requested using the procedures found in 14 CFR 39.19. Send information to Attn: Steve Potter, Aerospace Engineer, ACE-118W, Wichita Aircraft Certification Office (ACO), 1801 Airport Road, Room 100, Wichita, Kansas 67209; telephone: (316) 946-4124; fax: (316) 946-4107. Before using any approved AMOC on any airplane to which the AMOC applies, notify your appropriate principal inspector (PI) in the FAA Flight Standards District Office (FSDO), or lacking a PI, your local FSDO.

(g) In reviewing the docket and project files, we found no AMOCs submitted for AD 91-18-19. Since there are no AMOCs approved for AD 91-18-19 to approve for this AD, transfer of AMOCs to this AD does not apply.

Material Incorporated by Reference

(h) You must use Beechcraft Mandatory Service Bulletin No. 2394, dated December 1990, to do the actions required by this AD, unless the AD specifies otherwise. AD 91-18-19 (56 FR 42224; August 27, 1991), which is superseded by this airworthiness directive, incorporated this service information by reference as Beech Service Bulletin No. 2394, dated December 1990.

(1) On October 21, 1991 (56 FR 42224, August 27, 1991), the Director of the Federal Register approved the incorporation by reference of Beechcraft Mandatory Service Bulletin No. 2394, dated December 1990, under 5 U.S.C. 552(a) and 1 CFR part 51.

(2) For service information identified in this AD, contact Hawker Beechcraft Corporation, P.O. Box 85, Wichita, Kansas 67201-0085; telephone: (800) 429-5372 or (316) 676-3140; Internet: http://pubs.hawkerbeechcraft.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on November 20, 2009.
Margaret Kline,
Acting Manager, Small Airplane Directorate, Aircraft Certification Service.

[FR Doc. E9-28565 Filed 12-3-09; 8:45 am]

BILLING CODE 4910-13-P